DEPARTMENT OF ENERGY

Federal Energy Regulatory Commission

[Docket No. CP19-118-000]

Trans-Foreland Pipeline Company, LLC; Notice of Revised Schedule for Environmental Review of the Kenai LNG Cool Down Project

This notice identifies the Federal Energy Regulatory Commission staff's revised schedule for the completion of the environmental assessment (EA) for Trans-Foreland Pipeline Company, LLC's (Trans-Foreland) Kenai LNG Cool Down Project (Project). A notice of suspended schedule was issued on April 8, 2020 which stated an equivalency determination from the United States Department of Transportation's Pipeline and Hazardous Material Safety Administration (PHMSA) is necessary for completion of the EA. Subsequently, PHMSA issued a letter on May 8, 2020, clarifying that it had no objection to the location of the trim vaporizer. As a result, staff has revised the schedule for issuance of the EA.

Schedule for Environmental Review

Issuance of the EA—September 3, 2020

90-day Federal Authorization Decision Deadline—December 2, 2020

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP19-118), and follow the instructions. For assistance with access to eLibrary, the helpline can be reached at (866) 208-3676, TTY (202) 502-8659, or at FERCOnlineSupport@ferc.gov. The eLibrary link on the FERC website also provides access to the texts of formal documents issued by the Commission, such as orders, notices, and rule makings. This notice is issued and published in accordance with 18 CFR 2.1 (2019).

Dated: August 5, 2020.
Kimberly D. Bose,
Secretary.

[FR Doc. 2020-17498 Filed 8-10-20; 8:45 am]

BILLING CODE 6717-01-P